DEPARTMENT OF HEALTH AND HUMAN SERVICES

Food and Drug Administration

[Docket No. FDA-2011-N-0005]

Memorandum of Understanding Between the Food and Drug Administration and the U.S. Department of Agriculture's Agricultural and Marketing Service, Farm Service Agency, and Food Nutrition Service

AGENCY: Food and Drug Administration, HHS.

ACTION: Notice.

SUMMARY: The Food and Drug Administration (FDA) is providing notice of a memorandum of understanding (MOU) with the U.S. Department of Agriculture's (USDA) Agricultural and Marketing Service, Farm Service Agency, and Food Nutrition Service. The purpose of the MOU is to provide a framework for the parties to communicate and cooperate in the timely and full exchange of information to optimize controls essential to minimizing potential for the distribution or use of USDA foods which may be unsafe. For the purpose of this MOU, the term “USDA foods” will mean commodities procured by USDA for use in domestic nutrition assistance programs.

DATES: The agreement became effective September 29, 2011.

FOR FURTHER INFORMATION CONTACT: Jacqueline Little, Office of Enforcement, Food and Drug Administration, 12420 Parklawn Dr., Element Bldg, rm. 4146, Rockville, MD 20857, (301) 796-8204, Fax: (301) 827-3680, Email: jacqueline.little@fda.hhs.gov.

SUPPLEMENTARY INFORMATION: In accordance with 21 CFR 20.108(c), which states that all written agreements and MOUs between FDA and others shall be published in the Federal Register, the Agency is publishing notice of this MOU.

Dated: November 25, 2011.
Leslie Kux,
Acting Assistant Commissioner for Policy.

BILLING CODE 4160-01-P

[FR Doc. 2011-30911 Filed 11-30-11; 8:45 am]

BILLING CODE 4160-01-C